DEPARTMENT OF THE INTERIOR

Bureau of Land Management

[WY-920-09-1320-EL, WYW173369]

Coal Lease Exploration License, WY; Notice of Invitation for Coal Exploration License Application, Powder River Coal, LLC, WYW173369, Wyoming

AGENCY: Bureau of Land Management, Interior.

ACTION: Notice of invitation.

SUMMARY: Pursuant to Section 2(b) of the Mineral Leasing Act of 1920, as amended by Section 4 of the Federal Coal Leasing Amendments Act of 1976, 90 Stat. 1083, 30 U.S.C. 201 (b), and to the regulations adopted as 43 Code of Federal Regulations (CFR) 3410, all interested qualified parties, as provided in 43 CFR 3472.1, are hereby invited to participate with Powder River Coal, LLC on a pro rata cost sharing basis in its program for the exploration of coal deposits owned by the United States of America in the following-described lands in Campbell County, WY:

T. 48 N., R. 70 W., 6th P.M., Wyoming

Sec. 5: Lots 5 through 11;

Sec. 6: Lots 8 through 23;

Sec. 8: Lots 1 through 16;

Sec. 17: Lots 1 through 16;

Sec. 18: Lots 13, 14, 19 and 20;

Sec. 19: Lots 5 through 14;

Sec. 20: Lots 1 through 11.

T. 48 N., R. 71 W., 6th P.M., Wyoming

Sec. 6: Lots 9, 10, 13, 14 (W2), 17, 18, 21, and 22;

Sec. 7: Lots 6, 7, 10, 11, 13, 14, 17, and 18.

T. 48 N., R. 72 W., 6th P.M., Wyoming

Sec. 1: Lots 6 through 11, 14 through 19;

Sec. 2: Lots 5, 12, 13, and 20;

Sec. 11: Lots 1 and 7;

Sec. 12: Lots 2 through 7.

T. 49 N., R. 70 W., 6th P.M., Wyoming

Sec. 30: Lots 17 through 19;

Sec. 31: Lots 5 through 20.

T. 49 N., R. 71 W., 6th P.M., Wyoming

Sec. 20: Lots 13 through 16;

Sec. 21: Lots 13 through 16;

Sec. 22: Lots 13 through 15;

Sec. 25: Lots 13 through 16;

Sec. 26: Lots 13 through 16;

Sec. 27: Lots 2 through 7, 10 through 16;

Sec. 28: Lots 1 through 16;

Sec. 29: Lots 1 through 16;

Sec. 31: Lots 5, 6, 11 through 13, 16 through 19;

Sec. 32: Lots 1 through 6, 11 through 14;

Sec. 33: Lots 1 through 4;

Sec. 34: Lots 1 through 10, 16;

Sec. 35: Lots 1 through 15.

Containing 10,188.825 acres, more or less.

DATES: Any party electing to participate in this exploration program must send written notice to both the Bureau of Land Management and Powder River Coal, LLC, as provided in the ADDRESSES section below, which must be received within 30 days after publication of this Notice of Invitation in the Federal Register.

ADDRESSES: Copies of the exploration plan are available for review during normal business hours in the following offices (serialized under number WYW173369): Bureau of Land Management, Wyoming State Office, 5353 Yellowstone Road, P.O. Box 1828, Cheyenne, WY 82003; and, Bureau of Land Management, Casper Field Office, 2987 Prospector Drive, Casper, WY 82604. The written notice should be sent to the following addresses: Powder River Coal, LLC, Attn: Robbie Willson, Caller Box 3034, Gillette, WY 82717, and the Bureau of Land Management, Wyoming State Office, Branch of Solid Minerals, Attn: Julie Weaver, P.O. Box 1828, Cheyenne, WY 82003.

SUPPLEMENTARY INFORMATION: All of the coal in the above-described land consists of unleased Federal coal within the Powder River Basin Known Coal Leasing Area. The purpose of the exploration program is to obtain information concerning coal quantity, quality and seam structure for the Wyodak-Anderson coal seam.

This notice of invitation will be published in The News-Record of Gillette, WY, once each week for two consecutive weeks beginning the week of October 23, 2006, and in the Federal Register. The foregoing is published in the Federal Register pursuant to 43 CFR 3410.2-1(c)(1).

Dated: September 28, 2006.
Alan Rabinoff,
Deputy State Director, Minerals and Lands.

[FR Doc. E6-18064 Filed 10-26-06; 8:45 am]

BILLING CODE 4310-22-P